FEDERAL COMMUNICATIONS COMMISSION

[FR ID 281694]

Open Commission Meeting Thursday, February 27, 2025

February 20, 2025.

The Federal Communications Commission will hold an Open Meeting on the subjects listed below on Thursday, February 27, 2025, which is scheduled to commence at 10:30 a.m. in the Commission Meeting Room of the Federal Communications Commission, 45 L Street NE, Washington, DC.

While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | Office of Economics and Analytics | Title: Enhancing National Security Through the Auction of AWS-3 Spectrum Licenses (GN Docket No. 25-70); Applying New Average Annual Gross Revenue Benchmarks for Small Business Bidding Credits (GN Docket No. 25-71); Amendment of the Commission's Rules with Regard to Commercial Operations in the 1695-1710 MHz, 1755-1780 MHz, and 2155-2180 MHz Bands (GN Docket No. 13-185).
|  | Summary: The Commission will consider a Notice of Proposed Rulemaking that would update 10 year-old AWS-3 service-specific competitive bidding rules to bring those rules in line with current practice as the first step in fulfilling the Commission's statutory obligation to initiate an auction of licenses for the AWS-3 spectrum in the Commission's inventory by June 23, 2026, under the Spectrum and Secure Technology and Innovation Act.
2 | Wireless Telecommunications | Title: Upper C-band (3.98 to 4.2 GHz) (GN Docket No. 25-59).
|  | Summary: The Commission will consider a Notice of Inquiry exploring whether, and if so how, we could free up additional mid-band spectrum for new services in the Upper C-band to meet projected spectrum demand, spur economic growth, and advance American security interests.
3 | Public Safety and Homeland Security | Title: Wireless Emergency Alerts (PS Docket No. 15-91); Amendments to Part 11 of the Commission's Rules Regarding the Emergency Alert System; (PS Docket No. 15-94).
|  | Summary:The Commission will consider a Report and Order and Further Notice of Proposed Rulemaking intended to give emergency managers and consumers greater customization of the Wireless Emergency Alerts they send and receive, which would increase public safety and reduce consumers opting out of this life-saving service.
4 | Consumer and Governmental Affairs | Title: Advanced Methods to Target and Eliminate Unlawful Robocalls (CG Docket No. 17-59).
|  | Summary: The Commission will consider a Report and Order that strengthens the Commission's call blocking rules by expanding the requirement to block calls based on a reasonable do-not-originate list to include all providers in the call path and by designating an exclusive code to notify callers when certain calls are blocked.
5 | Media | Title: Updates to the Commission's Rules Implementing the Commercial Advertisement Loudness Mitigation (CALM) Act (MB Docket No. 25-72).
|  | Summary:The Commission will consider a Notice of Proposed Rulemaking that would undertake a review of the Commission's commercial loudness rules, in effect since 2012, and seek comment on the need for updates or changes.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairman may hold a news conference in which he will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Authority: This meeting is held, in accordance with the Government in the Sunshine Act (Sunshine Act), Public Law 94-409, as amended (5 U.S.C. 552b).

Federal Communications Commission.
Marlene Dortch,
Secretary.

[FR Doc. 2025-03302 Filed 2-27-25; 8:45 am]

BILLING CODE 6712-01-P